DEPARTMENT OF ENERGY

Federal Energy Regulatory Commission

[Docket No. CP25-207-000]

Distrigas of Massachusetts LLC; Notice of Schedule for the Preparation of an Environmental Assessment for the Bog Compressor Project

On April 14, 2025, Distrigas of Massachusetts LLC filed an application in Docket No. CP25-207-000 requesting Authorization pursuant to section 3 of the Natural Gas Act to construct and operate certain natural gas facilities. The proposed project is known as the BOG Compressor Project (Project) and would involve installing a redundant boil-off gas (BOG) compressor to capture BOG emissions from the existing liquefied natural gas storage system.

On April 25, 2025, the Federal Energy Regulatory Commission (Commission or FERC) issued its Notice of Application for the Project. Among other things, that notice alerted agencies issuing Federal authorizations of the requirement to complete all necessary reviews and to reach a final decision on a request for a Federal authorization within 90 days of the date of issuance of the Commission staff's environmental document for the Project.

This notice identifies Commission staff's intention to prepare an environmental assessment (EA) for the Project and the planned schedule for the completion of the environmental review.¹

¹ For tracking purposes under the National Environmental Policy Act, the unique identification number for documents relating to this environmental review is EAXX-019-20-000-1747049057.

Schedule for Environmental Review

Issuance of EA June 27, 2025

90-day Federal Authorization Decision Deadline ² September 25, 2025

² The Commission's deadline applies to the decisions of other Federal agencies, and State agencies acting under federally delegated authority, that are responsible for Federal authorizations, permits, and other approvals necessary for proposed projects under the Natural Gas Act. Per 18 CFR 157.22(a), the Commission's deadline for other agency's decisions applies unless a schedule is otherwise established by Federal law.

If a schedule change becomes necessary, additional notice will be provided so that the relevant agencies are kept informed of the Project's progress.

Project Description

The proposed Project includes construction and operation of the following facilities within the existing liquefied natural gas storage system fenceline:

• one 500-horsepower (hp) electric driven BOG compressor unit;

• modifications to the Water/Glycol Heating and Cooling System;

• new heating, ventilation, and air conditioning system on the existing BOG compressor building;

• electrical service connection and new medium voltage to low voltage transformer within the Terminal;

• 400 feet of new 12-inch-diameter piping; and

• ancillary systems for process control, instrumentation, communications, and hazard detection, which will be integrated with the existing plant control system.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP25-207), and follow the instructions. For assistance with access to eLibrary, the helpline can be reached at (866) 208-3676, TTY (202) 502-8659, or at FERCOnlineSupport@ferc.gov. The eLibrary link on the FERC website also provides access to the texts of formal documents issued by the Commission, such as orders, notices, and rulemakings.

Dated: May 19, 2025.
Debbie-Anne A. Reese,
Secretary.

[FR Doc. 2025-09330 Filed 5-22-25; 8:45 am]

BILLING CODE 6717-01-P